DEPARTMENT OF THE INTERIOR

National Park Service

[NPS-WASO-NAGPRA-NPS0037122; PPWOCRADN0-PCU00RP14.R50000]

Notice of Inventory Completion: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology (PMAE), Harvard University, Cambridge, MA, has completed an inventory of associated funerary objects and has determined that there is no cultural affiliation between the associated funerary objects and any Indian Tribe. The associated funerary objects were removed from Sumner and Williamson counties, TN.

DATES: Disposition of the associated funerary objects in this notice may occur on or after January 22, 2024.

ADDRESSES: Patricia Capone, Peabody Museum of Archaeology and Ethnology, Harvard University, 11 Divinity Avenue, Cambridge, MA 02138, telephone (617) 496-3702, email pcapone@fas.harvard.edu.

SUPPLEMENTARY INFORMATION: This notice is published as part of the National Park Service's administrative responsibilities under NAGPRA. The determinations in this notice are the sole responsibility of the PMAE. The National Park Service is not responsible for the determinations in this notice. Additional information on the determinations in this notice, including the results of consultation, can be found in the inventory or related records held by the PMAE.

Description

The human remains associated with the associated funerary objects were previously published in the Federal Register on December 21, 2018 (83 FR 65741-65743), September 15, 2022 (87 FR 56695-56696), and April 26, 2023 (88 FR 25426-25427) and transfer of control has been completed. The present notice reflects the identification of additional associated funerary objects.

In 1878, associated funerary objects were removed from the site of Gray's Farm (40Wm11) in Williamson County, TN, by Edwin Curtiss as part of a Peabody Museum of Archaeology and Ethnology expedition led by F.W. Putnam. The one associated funerary object is a shell spoon.

In 1878, associated funerary objects were removed from the site of Noel Cemetery, also known as Oscar Noel's Farm (40Dv3), in Davidson County, TN, by Edwin Curtiss as part of a Peabody Museum of Archaeology and Ethnology expedition led by F.W. Putnam. The one associated funerary object is a stone bead.

In 1882, associated funerary objects were removed from the Brentwood Library Site (40Wm210) also known as Dr. Jarman's Site, in Williamson County, TN, by F.W. Putnam as part of a Peabody Museum of Archaeology and Ethnology expedition. The one associated funerary object is a pearl bead.

In 1879, associated funerary objects were removed from the Rutherford-Kizer site (40Su15) in Sumner, TN, by Edwin Curtiss as part of a Peabody Museum of Archaeology and Ethnology Expedition led by F.W. Putnam. The two associated funerary objects are one shell fragment and one shell bead.

Aboriginal Land

The associated funerary objects in this notice were removed from known geographic locations. These locations are the aboriginal lands of one or more Indian Tribes. The following information was used to identify the aboriginal land: a final judgment of the Indian Claims Commission or the United States Court of Claims and treaties.

Determinations

Pursuant to NAGPRA and its implementing regulations, and after consultation with the appropriate Indian Tribes, the PMAE has determined that:

• The five objects described in this notice are reasonably believed to have been placed with or near individual human remains at the time of death or later as part of the death rite or ceremony.

• No relationship of shared group identity can be reasonably traced between the human remains and associated funerary objects and any Indian Tribe.

• The human remains and associated funerary objects described in this notice were removed from the aboriginal land of the Cherokee Nation; Eastern Band of Cherokee Indians; and the United Keetoowah Band of Cherokee Indians in Oklahoma.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects described in this notice to a requestor may occur on or after January 22, 2024. If competing requests for disposition are received, the PMAE must determine the most appropriate requestor prior to disposition. Requests for joint disposition of the human remains and associated funerary objects are considered a single request and not competing requests. The PMAE is responsible for sending a copy of this notice to the Indian Tribes identified in this notice.

Authority: Native American Graves Protection and Repatriation Act, 25 U.S.C. 3003, and the implementing regulations, 43 CFR 10.9 and 10.11.

Dated: December 13, 2023.
Melanie O'Brien,
Manager, National NAGPRA Program.

[FR Doc. 2023-28177 Filed 12-21-23; 8:45 am]

BILLING CODE 4312-52-P